DEPARTMENT OF LABOR

Employment and Training Administration

[OMB Control Number 1205-0457]

Comment Request for Information Collection for Form ETA-9127, Foreign Labor Certification Quarterly Activity Report; Revision

AGENCY: Employment and Training Administration (ETA), Labor.

ACTION: Notice.

SUMMARY: The Department of Labor (DOL), as part of its continuing effort to reduce paperwork and respondent burden, conducts a preclearance consultation program to provide the public and Federal agencies with an opportunity to comment on proposed and/or continuing collections of information in accordance with the Paperwork Reduction Act of 1995 (44 U.S.C. 3506(c)(2)(A)). This program helps ensure that requested data can be provided in the desired format, reporting burden (time and financial resources) is minimized, collection instruments are clearly understood, and the impact of collection requirements on respondents can be properly assessed.

Currently, the Employment and Training Administration (ETA) is soliciting comments concerning the collection of data about Form ETA-9127, Foreign Labor Certification Quarterly Activity Report (OMB Control Number 1205-0457), which expires May 31, 2015. The Form ETA-9127 solicits information from State Workforce Agencies (SWAs) who are recipients of foreign labor certification grants about program-related activities performed by SWA staff in accordance with the specific fiscal year annual plans. These activities include reviewing and transmitting H-2A and H-2B job orders, conducting H-2A prevailing wage and prevailing practice surveys, and performing H-2A related housing inspections of facilities offered to agricultural workers.

DATES: Written comments must be submitted to the office listed in the ADDRESSES section below on or before May 4, 2015.

ADDRESSES: Submit written comments to Brian Pasternak, National Director of Temporary Programs, Office of Foreign Labor Certification, Room C-4312, Employment & Training Administration, U.S. Department of Labor, 200 Constitution Avenue NW., Washington, DC 20210. Telephone number: 202-693-3010 (this is not a toll-free number). Individuals with hearing or speech impairments may access the telephone number above via TTY by calling the toll-free Federal Information Relay Service at 1-877-889-5627 (TTY/TDD). Fax: 202-693-2768. Email: ETA.OFLC.Forms@dol.gov subject line: ETA-9127. A copy of the proposed information collection request (ICR) can be obtained free of charge by contacting the office listed above.

SUPPLEMENTARY INFORMATION:

I. Background

Under the foreign labor certification programs administered by ETA, SWAs are funded through annually reimbursable grants to conduct certain activities that support the processing of applications for temporary labor certification filed by U.S. employers in order to hire foreign workers in the H-2B or H-2A visa categories to perform agricultural or nonagricultural services or labor. Under the grant agreements, SWAs must review and transmit through the intrastate and interstate systems job orders submitted by employers in order to recruit U.S. workers prior to filling the job openings with foreign workers.

In order to effectively monitor the administration of foreign labor certification activities by the SWAs, the Department requires the SWAs to report their workloads related to these activities on a quarterly basis. This collection of information is conducted through Form ETA-9127, Foreign Labor Certification Quarterly Activity Report. This report is critical for ensuring accountability and for future program management, including budget and workload management. ETA intends to revise the information collection by clarifying the ETA-9127 instructions and making minor changes to the PRA disclosure on the form.

II. Review Focus

DOL is particularly interested in comments that:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Revision.

Title: Form ETA-9127, Foreign Labor Certification Quarterly Activity Report.

OMB Number: 1205-0457.

Affected Public: State, local or tribal governments.

Form(s): ETA-9127.

Total Annual Respondents: 54.

Annual Frequency: Quarterly.

Total Annual Responses: 216.

Average Time per Response: 2 hours.

Estimated Total Annual Burden Hours: 432.

Total Annual Burden Cost for Respondents: $9,910.

Comments submitted in response to this comment request will be summarized and/or included in the request for OMB approval of the ICR; they will also become a matter of public record. Commenters are encouraged not to submit sensitive information (e.g., confidential business information or personally identifiable information such as a social security number).

Portia Wu,
Assistant Secretary for Employment and Training, Labor.

[FR Doc. 2015-05116 Filed 3-4-15; 8:45 am]

BILLING CODE 4510-FP-P